DEPARTMENT OF HOMELAND SECURITY

U.S. Citizenship and Immigration Services

[CIS No. 2710-21; DHS Docket No. USCIS-2014-0003]

RIN 1615-ZB92

Designation of Sudan for Temporary Protected Status

AGENCY: U.S. Citizenship and Immigration Services (USCIS), Department of Homeland Security (DHS).

ACTION: Notice of Temporary Protected Status (TPS) designation.

SUMMARY: Through this Notice, the Department of Homeland Security (DHS) announces that the Secretary of Homeland Security (Secretary) has designated Sudan for Temporary Protected Status (TPS) for eighteen months, from April 19, 2022, through October 19, 2023. This designation allows eligible Sudanese nationals (and individuals having no nationality who last habitually resided in Sudan) who have continuously resided in the United States since March 1, 2022, and who have been continuously physically present in the United States since April 19, 2022 to apply for TPS.

DATES: Designation of Sudan for TPS: The eighteen-month designation of Sudan for TPS is effective on April 19, 2022 and will remain in effect for eighteen months, through October 19, 2023. The registration period for eligible individuals to submit TPS applications begins April 19, 2022 and will remain in effect through October 19, 2023.

FOR FURTHER INFORMATION CONTACT: Rená Cutlip-Mason, Chief, Humanitarian Affairs Division, Office of Policy and Strategy, U.S. Citizenship and Immigration Services, Department of Homeland Security, by mail at 5900 Capital Gateway Drive, Camp Springs, MD 20746, or by phone at 800-375-5283.

ADDRESSES: For further information on TPS, including guidance on the registration process and additional information on eligibility, please visit the USCIS TPS web page at uscis.gov/tps. You can find specific information about Sudan's TPS designation by selecting “Sudan” from the menu on the left side of the TPS web page.

If you have additional questions about TPS, please visit uscis.gov/tools. Our online virtual assistant, Emma, can answer many of your questions and point you to additional information on our website. If you are unable to find your answers there, you may also call our USCIS Contact Center at 800-375-5283 (TTY 800-767-1833).

Applicants seeking information about the status of their individual cases may check Case Status Online, available on the USCIS website at uscis.gov, or visit the USCIS Contact Center at uscis.gov/contactcenter.

Further information will also be available at local USCIS offices upon publication of this Notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-765—Application for Employment Authorization

Form I-797—Notice of Action (Approval Notice)

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TNC—Tentative Nonconfirmation

TPS—Temporary Protected Status

TTY—Text Telephone

USCIS—U.S. Citizenship and Immigration Services

U.S.C.—United States Code

Purpose of this Action (TPS)

Through this Notice, DHS sets forth procedures necessary for eligible beneficiaries whose TPS has been continued pursuant to court orders, as described in 86 FR 50725 (Sept. 10, 2021), to newly apply for TPS.¹ This Notice also sets forth procedures for other eligible nationals of Sudan (or individuals having no nationality who last habitually resided in Sudan) to submit an initial registration application under the designation of Sudan for TPS and apply for an EAD. Under the designation, individuals must submit an initial Form I-821, Application for Temporary Protected Status, and they may also submit a Form I-765, Application for Employment Authorization, during the registration period that runs from April 19, 2022, through October 19, 2023.² Under section 244(b)(1)(C) of the Immigration and Nationality Act (INA), 8 U.S.C. 1245a(b)(1)(C), the Secretary is authorized to designate a foreign state (or any part thereof) for TPS upon finding that extraordinary and temporary conditions in the foreign state prevent its nationals from returning safely, unless permitting the foreign state's nationals to remain temporarily in the United States is contrary to the national interest of the United States.

¹ Since its first litigation compliance Federal Register notice, DHS has repeatedly emphasized and reserved its statutory authority to conduct re-registration of beneficiaries, including those under the Sudan TPS designation, whose TPS is presently continued under the preliminary injunctions issued in Ramos, et al. v. Nielsen, et. al., No. 18-cv-01554 (N.D. Cal. Oct. 3, 2018) (“Ramos”), on appeal 975 F.3d 872 (9th Cir. 2020), petition for en banc rehearing filed Nov. 30, 2020 (No. 18-16981); Saget, et. al., v. Trump, et. al., No. 18-cv-1599 (E.D.N.Y. Apr. 11, 2019) (“Saget”) appeal filed, No. 19-1685 (2d Cir.); and Bhattarai v. Nielsen, No. 19-cv-00731 (N.D. Cal. Mar. 12, 2019) (“Bhattarai”). See 85 FR at 79209-10; 84 FR 59403, 59406 (Nov. 4, 2019); 84 FR 7103, 7105 (Mar. 1, 2019); 84 FR 45764, 45765-66 (Oct. 31, 2018). See also infra for discussion of these lawsuits.

² In general, individuals must be given an initial registration period of no less than 180 days to register for TPS, but the Secretary has discretion to provide for a longer registration period. See 8 U.S.C. 1254a(c)(1)(A)(iv). In keeping with the humanitarian purpose of TPS and advancing the goal of ensuring “the Federal Government eliminates . . . barriers that prevent immigrants from accessing government services available to them” under Executive Order 14012, Restoring Faith in Our Legal Immigration Systems and Strengthening Integration and Inclusion Efforts for New Americans, 86 FR 8277 (Feb. 5, 2021), the Secretary has recently exercised his discretion to provide for TPS initial registration periods that coincide with the full period of a TPS country's initial designation or redesignation. See, e.g., 86 FR 41863 (Aug. 3, 2021) (providing 18-mos. registration period under new TPS designation of Haiti); 86 FR 41986 (Aug. 4, 2021) (“Extension of Initial Registration Periods for New Temporary Protected Status Applicants Under the Designations for Venezuela, Syria and Burma). For the same reasons, the Secretary is similarly exercising his discretion to provide applicants under this TPS designation of Sudan with an 18-month initial registration period.

In addition to demonstrating continuous residence in the United States since March 1, 2022, and meeting other eligibility criteria, applicants for TPS under this designation must demonstrate that they have been continuously physically present in the United States since April 19, 2022, the effective date of this designation of Sudan, for USCIS to grant them TPS.³ DHS estimates that approximately 3,090 individuals are eligible to file applications for TPS under the designation of Sudan.

³ The “continuous physical presence date” (CPP) is the effective date of the most recent TPS designation of the country, which is either the publication date of the designation announcement in the Federal Register or such later date as the Secretary may establish. The “continuous residence date” (CR) is any date established by the Secretary when a country is designated (or sometimes redesignated) for TPS. See INA § 244(b)(2)(A) (effective date of designation); 244(c)(1)(A)(i-ii) (discussing CR and CPP date requirements).

What Is TPS?

• TPS is a temporary immigration status granted to eligible nationals of a foreign state designated for TPS under the INA, or to eligible individuals without nationality who last habitually resided in the designated foreign state, regardless of their country of birth.

• During the TPS designation period, TPS beneficiaries are eligible to remain in the United States, may not be removed, and are authorized to obtain EADs so long as they continue to meet the requirements of TPS.

• TPS beneficiaries may also apply for and be granted travel authorization as a matter of discretion.

• The granting of TPS does not result in or lead to lawful permanent resident status.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, as long as it is still valid beyond the date TPS terminates.

Is Sudan's previous designation for TPS still in effect?

On November 4, 1997, the Attorney General designated Sudan for TPS due to: (1) An ongoing armed conflict, and that because of such conflict, requiring the return of nationals to Sudan would pose a serious threat to their personal safety; and (2) extraordinary and temporary conditions within Sudan preventing nationals from returning to Sudan in safety.⁴ Since the initial designation, the Attorney General and, later, the Secretary, have extended TPS and/or redesignated Sudan for TPS. Sudan's most recent redesignation for TPS was in 2013, when the Secretary both extended Sudan's designation and redesignated Sudan for TPS for eighteen months. Sudan's TPS designation was extended in 2016 (for eighteen months through November 2, 2017), and again in 2017 (for 12 months). On October 11, 2017, former Acting Secretary of Homeland Security Elaine Duke provided notice in the Federal Register that she was terminating Sudan's TPS designation, effective November 2, 2018.⁵

⁴ See Designation of Sudan Under Temporary Protected Status, 62 FR 59737 (Nov. 4, 1997).

⁵ For general history of TPS designations, redesignations and extensions for Sudan, see 81 FRN 4045 (Jan. 25, 2016). See also Termination of the Designation of Sudan for Temporary Protected Status, 82 FR 47228 (Oct. 11, 2017).

The termination of Sudan's TPS designation is being challenged in a lawsuit, Ramos v. Wolf, with the result that TPS for Sudan remains in effect pending further court order.⁶ On Sept. 14, 2020, the U.S. Court of Appeals for the Ninth Circuit vacated the federal district court's preliminary injunction prohibiting DHS from terminating TPS for El Salvador, Haiti, Nicaragua and Sudan. However, because the Ninth Circuit has not issued its directive to the district court to make that ruling effective, the injunction remains in place. Under the injunction, DHS must continue TPS and TPS-related documentation for eligible beneficiaries under the previous designations, including Sudan's, while the litigation proceeds. In addition, the plaintiffs have sought en banc rehearing of the appellate panel's decision. Proceedings are stayed while the case is in mediation.

⁶ See Ramos, et al. v. Nielsen, et al., 336 F.Supp.3d, 1075 (ND Cal. Oct. 3, 2018), vacated on appeal, Ramos v. Wolf, 975 F.3d 872(9th Cir. Sept. 14, 2020); petition for en banc rehearing filed Nov. 30, 2021(No. 18-16981).

DHS has also published a series of Federal Register notices to maintain compliance with the existing injunction in Ramos and the related case of Bhattarai v. DHS.⁷ The latest such notice continues TPS and TPS-related documentation for eligible beneficiaries of the six affected countries through December 31, 2022.⁸

⁷ See Bhattarai v. DHS, 19-cv-731 (N.D. Cal.). This case challenges the terminations of TPS for Honduras and Nepal. The current stay in the case is contingent on what happens in the appeal of Ramos, which is currently stayed, as well.

⁸ See 86 FR 50725 (Sept. 10, 2021).

There are approximately 700 beneficiaries currently receiving TPS benefits under Sudan's previous designation. These beneficiaries maintain their status and work authorization at least through December 31, 2022, so long as they remain otherwise eligible for TPS. If the Ramos preliminary injunction continues in effect beyond December 31, 2022, DHS will continue to issue notices that will continue the validity of TPS-related documentation for all affected beneficiaries. USCIS will take appropriate measures to ensure continued compliance with any relevant court injunctions or other orders affecting Sudan's TPS that may continue or exist as of that date.

Why was Sudan designated for TPS?

DHS and the Department of State (DOS) have reviewed conditions in Sudan. Based on this review and after consulting with DOS, the Secretary has determined that an eighteen-month designation is warranted because of the extraordinary and temporary conditions described below.

Overview

Sudan is enduring a humanitarian crisis in which millions of individuals are exposed to violence, illness, and internal displacement. Political instability, civil unrest, and scarcity of resources are key contributors to the situation. In October 2021, the military removed the civilian-led transitional government, and declared a national state of emergency. Civil unrest and violent clashes rooted in tribal and inter-communal tensions occur across the country. An economic downturn and severe flooding have resulted in shortages of food and clean water and outbreaks of disease.

Political Situation

In April 2019, after a 30-year rule, Sudan's former President Omar al-Bashir was removed from power following a popular uprising.⁹ In August 2019, a civilian-led transitional government was established, made up of a Sovereign Council whose military, civilian, and armed group representatives served as a collective head of state, a civilian Prime Minister as head of government, and a Council of Ministers.¹⁰ Throughout 2021, Sudan continued to face rising political tensions and growing protests between different elements of the transition.¹¹ On October 25, 2021, a military takeover led by Lieutenant General Abdel Fattah Al Burhan brought an end to the civilian-led transitional government.¹²

⁹ Sudan Complex Crisis-Overview, Assessment Capacities Project (ACAPS), Aug. 3, 2021, available at: https://www.acaps.org/country/sudan/crisis/complex-crisis (last visited Mar. 1, 2022).

¹⁰ Sudan Complex Crisis-Overview, ACAPS, Aug. 3, 2021, available at: https://www.acaps.org/country/sudan/crisis/complex-crisis (last visited Mar. 1, 2022).

¹¹ The Forces for the Declaration of Freedom and Change, or FDFC, is the main coalition of opposition groups that has been stepping up calls for the military to hand leadership over to civilians in the government. It is comprised of various anti-al-Bashir political parties, professional movements and opposition groups. It has also called for restructuring the military and security agencies and ensure that al-Bashir loyalists are removed from these agencies, and to absorb the various opposition armed groups into Sudan's security agencies. See Samy Magdy and Lee Keath, EXPLAINER: How months of tensions led to Sudan's coup, AP News, Oct. 26, 2021, available at: https://apnews.com/article/explaining-what-led-to-sudan-coup-8e3609d1f573b6dd0383ed7a09f0d4aa (last visited Mar. 1, 2022).

¹² Miriam Berger and Sammy Westfall, Sudan's military has taken over, Here's what to know about who's charge, The Washington Post, last updated Oct. 26, 2021, available at: https://www.washingtonpost.com/world/2021/10/25/sudan-coup-military-takeover-why-who/ (last visited Mar. 1, 2022).

Since the October 2021 military takeover protests have continued throughout Sudan.¹³ Hundreds have reportedly been arrested, including activists, passersby, and journalists; while some of these individuals have subsequently been released, new arrests continue.¹⁴ Security forces have reportedly used excessive force and violence, including live ammunition and tear gas on protestors.¹⁵ In addition to the arrests, by November 17, 2021, a reported 38 protesters had been killed with hundreds more injured by security forces.¹⁶

¹³ Sudanese forces shoot 14 in deadliest day since military coup, The Guardian, Nov. 17, 2021, available at: https://www.theguardian.com/world/2021/nov/17/sudanese-forces-shoot-dead-at-least-14-protesters-against-coup (last visited Mar. 1, 2022).

¹⁴ Sudanese forces shoot 14 in deadliest day since military coup, The Guardian, Nov. 17, 2021, available at: https://www.theguardian.com/world/2021/nov/17/sudanese-forces-shoot-dead-at-least-14-protesters-against-coup (last visited Mar. 1, 2022).

¹⁵ Michael Atit, Sudan Journalists Protest Media Crackdown Since Coup, Voice of America, Nov. 17, 2021, available at: https://www.voanews.com/a/sudan-journalists-protest-media-crackdown-since-coup/6317029.html (last visited Mar. 1, 2022). See also U.S. Department of Treasury, Press Releases: Treasury Sanctions Sudanese Central Reserve Police for Serious Human Rights Abuse, March 21, 2022, available at: https://home.treasury.gov/news/press-releases/jy0668 (last visited Apr. 5, 2022).

¹⁶ Sudanese forces shoot 14 in deadliest day since military coup, The Guardian, Nov. 17, 2021, available at: https://www.theguardian.com/world/2021/nov/17/sudanese-forces-shoot-dead-at-least-14-protesters-against-coup (last visited Mar. 1, 2022).

Following the military takeover, in November 2021, military leadership reinstated Prime Minister Abdalla Hamdok in an attempt to quell the protests. However, “[p]rotests continued even after Mr. Hamdok had returned to office, with some demonstrators saying that his reinstatement was helping to legitimatise the military takeover.” ¹⁷ With violence against civilian protesters continuing, Prime Minister Hamdok resigned on January 2, 2022.¹⁸ The U.S. government sanctioned the Central Reserve Police, a militarized police unit, for serious human rights abuse under E.O. 13818 on March 21, 2022.

¹⁷ Sudan coup: Prime Minister Abdalla Hamdok resigns after mass protests, BBC.com, Jan. 3, 2022, available at: https://www.bbc.com/news/world-africa-59855246 (last visited Mar. 1, 2022).

¹⁸ Yassir Abdullah, Nima Elbagir, and Hamdi Alkhshali, Sudanese Prime Minister's resignation triggered by military reneging on deal, sources say, CNN, Jan. 4, 2022, available at: https://www.cnn.com/2022/01/03/africa/sudan-pm-resignation-details-intl/index.html (last visited Mar. 1, 2022).

Armed Conflict and Civil Unrest

In 2020, the civilian-led transitional government signed a peace agreement—the Juba Peace Agreement ¹⁹—with various opposition groups, including groups from Darfur and the “Two Areas” (South Kordofan and Blue Nile) regions of Sudan.²⁰ However, one Darfuri opposition group which did not sign this peace agreement; the Sudan Liberation Army/Movement, led by Abdul Wahid (SLA/AW), continues to be engaged in clashes with government forces, including with the Sudanese Armed Forces (SAF).²¹

¹⁹ 2020 Country Reports on Human Rights Practices: Sudan, U.S. Department of State, Mar. 30, 2021, pg. 2, available at: https://www.state.gov/reports/2020-country-reports-on-human-rights-practices/sudan/ (last visited Mar. 1, 2022).

²⁰ 2020 Country Reports on Human Rights Practices: Sudan, U.S. Department of State, Mar. 30, 2021, pg. 1, available at: https://www.state.gov/reports/2020-country-reports-on-human-rights-practices/sudan/ (last visited Mar. 1, 2022).

²¹ Durable Solutions & Baseline Analysis for the UN Peacebuilding Fund and the Durable Solutions Working Group in Sudan; Key obstacles to durable solutions and peacebuilding for the displacement-affected communities in Nertiti locality, Central Darfur, UN Refugee Agency (UNHCR), Aug. 2021, pg. 14, available at: https://data2.unhcr.org/en/documents/download/88361 (last visited Mar. 1, 2022).

In January 2021, United Nations Office of the Coordination of Humanitarian Affairs (UNOCHA) reported that instability, including intercommunal tensions, remained in several parts of the country.²² In July 2021, the Secretary General for the United Nations (UN) asserted that the primary security concern in Sudan remains “the increasing frequency of intercommunal violence.” ²³ Additionally, the withdrawal of the African Union-United Nations Hybrid Operation in Darfur (UNAMID) in June 2021 ²⁴ has “left a security and programmatic vacuum, which has yet to be filled by the transitional government or state-level authorities.” ²⁵

²² Sudan: Humanitarian Response Plan 2021, UNOCHA, Jan. 2021, pg. 12, available at: https://www.ecoi.net/en/file/local/2045900/SDN_2021HRP.pdf (last visited Mar. 1, 2022).

²³ Review of the situation in Darfur—Report of the Secretary General, UN Security Council, Jul. 31, 2021, pg. 4, available at: https://undocs.org/pdf?symbol=en/S/2021/696 (last visited Mar. 1, 2022).

²⁴ Withdrawal of Hybrid Peacekeeping Operation in Darfur Completed by 30 June Deadline, Under-Secretary-General Tells Security Council, Outlining Plans to Liquidate Assets, UN News, Jul. 27, 2021, available at: https://www.un.org/press/en/2021/sc14587.doc.htm (last visited Mar. 1, 2022).

²⁵ Review of the situation in Darfur and benchmarks to assess the measures on Darfur; Report of the Secretary-General [S/2021/696], UN Security Council, Jul. 2021, pg. 4, available at: https://www.ecoi.net/en/file/local/2058498/S_2021_696_E.pdf (last visited Mar. 1, 2022).

i. Civil Unrest in Darfur

In July 2021, the UN reported that intercommunal violence has increased in frequency and scale over the past year, in particular in West, North and South Darfur.²⁶ Since 2019, West Darfur has seen an escalation of intercommunal violence between two key ethnic groups in their region — the “Arab armed groups and [the] Masalit [Darfuri ethnic group].” ²⁷ An escalation of violence in April 2021 reportedly resulted in 144 people killed and 232 injured. Heavy weapons were reportedly used, and homes, a hospital, a UN compound, and a camp for internally displaced persons were destroyed or damaged. Also, “a power plant—the only source of electricity in El Geneina—was damaged, resulting in a critical disruption to most of the town's communication facilities, in addition to electricity and water supplies in some areas.” ²⁸ A few months later, in July 2021, UNOCHA reported that “around 500 armed men attacked [a town] leaving more than 60 people dead, . . . and another 60 injured.” ²⁹

²⁶ Review of the situation in Darfur and benchmarks to assess the measures on Darfur; Report of the Secretary-General [S/2021/696], UN Security Council, Jul. 2021, pg. 4 (footnote 9 and 10), available at: https://www.ecoi.net/en/file/local/2058498/S_2021_696_E.pdf (last visited Mar. 1, 2022).

²⁷ Durable Solutions & Baseline Analysis for the UN Peacebuilding Fund and the Durable Solutions Working Group in Sudan; Key obstacles to durable solutions and peacebuilding for the displacement-affected communities in Jebel Moon Locality, West Darfur, UNHCR, Aug. 2021, pg. 15, available at: https://data2.unhcr.org/en/documents/download/88361 (last visited Mar. 1, 2022).

²⁸ Situation in the Sudan and the activities of the United Nations Integrated Transition Assistance Mission in the Sudan; Report of the Secretary-General [S/2021/470], UN Security Council, May 17, 2021, pg. 5-6, available at: https://www.ecoi.net/en/file/local/2052225/S_2021_470_E.pdf (last visited Mar. 1, 2022).

²⁹ Sudan: Escalation of Violence in Darfur—Flash Update No. 2, UNOCHA, Jul. 27, 2020, pg. 1, available at: https://www.ecoi.net/en/file/local/2035090/Situation+Report+-+Sudan+-+23+Jul+2020+%284%29.pdf (last visited Mar. 1, 2022).

Central Darfur is also considered a hotspot for violent clashes due to the strong presence of the SLA/AW in this area, and throughout the Jebel Marra mountains.³⁰ Widespread insecurity and regular clashes between SLA/AW forces and the SAF has resulted in counter retaliation attacks and reported attacks on civilians for collaborating with either of the forces.³¹ In September 2021, the UN reported on continued fighting between SLA/AW and government forces in Central Darfur,³² including on May 18, when a clash reportedly resulted in the displacement of 1,284 people.³³

³⁰ Durable Solutions & Baseline Analysis for the UN Peacebuilding Fund and the Durable Solutions Working Group in Sudan; Key obstacles to durable solutions and peacebuilding for the displacement-affected communities in Nertiti locality, Central Darfur, UNHCR, Aug. 2021, pg. 14, available at: https://data2.unhcr.org/en/documents/download/88361 (last visited Mar. 1, 2022).

³¹ Durable Solutions & Baseline Analysis for the UN Peacebuilding Fund and the Durable Solutions Working Group in Sudan; Key obstacles to durable solutions and peacebuilding for the displacement-affected communities in Nertiti locality, Central Darfur, UNHCR, Aug. 2021, pg. 14, available at: https://data2.unhcr.org/en/documents/download/88361 (last visited Mar. 1, 2022).

³² Situation in the Sudan and the activities of the United Nations Integrated Transition Assistance Mission in the Sudan, UN Security Council, Sept. 1, 2021, pg. 4, available at: https://www.ecoi.net/en/file/local/2059931/S_2021_766_E.pdf (last visited Mar. 1, 2022).

³³ Situation in the Sudan and the activities of the United Nations Integrated Transition Assistance Mission in the Sudan, UN Security Council, Sept. 1, 2021, pg. 4, available at: https://www.ecoi.net/en/file/local/2059931/S_2021_766_E.pdf (last visited Mar. 1, 2022).

In South Darfur, fighting in May 2020 over land grazing rights between an indigenous group, the Fellata/Fallata, and the Rizeigat reportedly resulted in the death of 30 civilians.³⁴ In January 2021, deadly clashes between these groups resumed, reportedly leaving 60 dead and 40 wounded.³⁵ In July 2021, intercommunal violence persisted between the Fallata and Ta'isha tribes, reportedly leaving 48 dead and displacing 185 people.³⁶

³⁴ 30 people killed in intercommunal violence in South Darfur, Reliefweb, May 6, 2020, available at: https://reliefweb.int/report/sudan/30-people-killed-intercommunal-violence-south-darfur (last visited Mar. 1, 2022).

³⁵ Samy Magdy, Tribal clashes leave dozens dead in 2 Sudanese provinces, Associated Press, Jan. 18, 2021, reported by abcNEWS, available at: https://abcnews.go.com/International/wireStory/sudanese-bury-victims-darfur-violence-death-toll-129-75322312 (last visited Mar. 1, 2022).

³⁶ Situation in the Sudan and the activities of the United Nations Integrated Transition Assistance Mission in the Sudan, UN Security Council, Sept. 1, 2021, pg. 4, available at: https://www.ecoi.net/en/file/local/2059931/S_2021_766_E.pdf (last visited Mar. 1, 2022).

Similar intercommunal tensions in East Darfur are rooted in a long history of tensions, “conflict between the Rizeigat (pastoralists) and Ma'aliya (sedentary farmers) and Rizeigat (pastoralists) against Misseriya (pastoralists).” ³⁷ These legacy disputes are “driven by control of land, tribal leadership and wider political power plus access to pasture and water.” ³⁸

³⁷ Durable Solutions & Baseline Analysis for the UN Peacebuilding Fund and the Durable Solutions Working Group in Sudan; Key obstacles to durable solutions and peacebuilding for the displacement-affected communities in Assalaya, Yassin and Sheiria localities, East Darfur, UNHCR, Aug. 2021 pg. 15, available at: https://data2.unhcr.org/en/documents/download/88361 (last visited Mar. 1, 2022).

³⁸ Durable Solutions & Baseline Analysis for the UN Peacebuilding Fund and the Durable Solutions Working Group in Sudan; Key obstacles to durable solutions and peacebuilding for the displacement-affected communities in Assalaya, Yassin and Sheiria localities, East Darfur, UNHCR, Aug. 2021 pg. 15, available at: https://data2.unhcr.org/en/documents/download/88361 (last visited Mar. 1, 2022).

ii. Civil Unrest in Other Regions

The security situation in the Two Areas remains tense.³⁹ In 2017, the main opposition group in this region—the Sudan People's Liberation Movement/Army-North (SPLM/A-N)—splintered into two factions, resulting in several months of violence between the two groups.⁴⁰ Both groups were reportedly also involved in area fighting between Arab nomads and Nuban farmers in which a dozen or more people were killed.⁴¹ Similar “deadly clashes” ⁴² in the region included security forces who joined and aligned with civilian fighting along ethnic lines.⁴³

³⁹ Sudan: Country Report; The situation in South Kordofan and Blue Nile—An Update (3rd edition with addendum), Asylum Research Centre, Mar. 2021, pg. 20, available at: https://www.ecoi.net/en/file/local/2045013/Final_01.03.2021.pdf (last visited Mar. 1, 2022).

⁴⁰ A Question of Leadership: Addressing a Dangerous Crisis in Sudan SPLM-N, Enough, Jul. 2017, pg. 2, available at: https://enoughproject.org/reports/a-question-of-leadership (last visited Mar. 1, 2022).

⁴¹ 2020 Country Reports on Human Rights Practices: Sudan, U.S. Department of State, Mar. 30, 2021, pg. 9, available at: https://www.state.gov/reports/2020-country-reports-on-human-rights-practices/sudan/ (last visited Mar. 1, 2022).

⁴² Sudan: Country Report; The situation in South Kordofan and Blue Nile—An Update (3rd edition with addendum), Asylum Research Centre, Mar. 2021, pg. 22, available at: https://www.ecoi.net/en/file/local/2045013/Final_01.03.2021.pdf (last visited Mar. 1, 2022).

⁴³ Situation of human rights in the Sudan Report of the Independent Expert on the situation of human rights in the Sudan, UN Human Rights Council, Jul. 30, 2020, pg. 13, available at: https://reliefweb.int/report/sudan/report-independent-expert-situation-human-rights-sudan-ahrc4553-enar (last visited Mar. 1, 2022); Sudan: Country Report; The situation in South Kordofan and Blue Nile—An Update (3rd edition with addendum), Asylum Research Centre, Mar. 2021, pg. 22-23, available at: https://www.ecoi.net/en/file/local/2045013/Final_01.03.2021.pdf (last visited Mar. 1, 2022).

In January 2019, Sudan's Eastern State (the “Red Sea State”), also saw renewed inter-communal violence between the main Arab and non-Arab ethnic groups in the region.⁴⁴ In September 2021, the UN assessed that the “security situation in the eastern Red Sea State remained volatile.” ⁴⁵

⁴⁴ 2019 Country Reports on Human Rights Practices: Sudan, U.S. Department of State, Mar. 30, 2020, pg. 9, available at: https://www.state.gov/reports/2019-country-reports-on-human-rights-practices/sudan/ (last visited Mar. 1, 2022).

⁴⁵ Situation in the Sudan and the activities of the United Nations Integrated Transition Assistance Mission in the Sudan, UN Security Council, Sept. 1, 2021, pg. 5, available at: https://www.ecoi.net/en/file/local/2059931/S_2021_766_E.pdf (last visited Mar. 1, 2022).

In the Abyei region disputed between Sudan and South Sudan, the U.N. reported that the security situation remained tense with renewed intercommunal violence between the two main ethnic groups in the region—the Misseriya and Ngok Dinka communities.⁴⁶ In April 2021, the U.N. reported that the “general security situation in the Abyei Area has been relatively calm, yet tense and unpredictable.” ⁴⁷ The “most prevalent threats to security were shooting incidents, the increased presence of unidentified armed groups, armed attacks on civilians and violent confrontations between the communities.” ⁴⁸ As of March 2022, more than 50,000 people have been displaced due to hostilities in Abyei.⁴⁹

⁴⁶ The situation in Abyei; Report of the Secretary-General [S/2020/1019], UN Security Council, Oct. 15, 2020, available at: https://www.ecoi.net/en/file/local/2039488/S_2020_1019_E.pdf (last visited Mar. 1, 2022).

⁴⁷ The situation in Abyei; Report of the Secretary-General [S/2021/383], UN Security Council, Apr. 20, 2021, pg. 2, available at: https://reliefweb.int/report/sudan/situation-abyei-report-secretary-general-s2021383-enar (last visited Mar. 1, 2022).

⁴⁸ The situation in Abyei; Report of the Secretary-General [S/2021/383], UN Security Council, Apr. 20, 2021, pg. 2, available at: https://reliefweb.int/report/sudan/situation-abyei-report-secretary-general-s2021383-enar (last visited Mar. 1, 2022).

⁴⁹ Abyei Clashes Flash Update No. 2—As of 09 March 2022, OCHA, Mar. 9, 2022, available at: https://reliefweb.int/report/south-sudan/abyei-clashes-flash-update-no-2-09-march-2022 (last visited Apr. 4, 2022).

Humanitarian Crisis

Sudan also continues “to suffer from one of the world's largest protracted humanitarian crises” due to conflict and displacement, deteriorating economic conditions, limited access to basic services, and several disease outbreaks, including the COVID-19 pandemic.⁵⁰ Since 2018, Sudan has also faced severe economic challenges.⁵¹ National poverty levels have risen drastically,⁵² and incomes, wages, and purchasing power have fallen, “driving 9.6 million people—almost a quarter of the entire population of Sudan—to severe food insecurity.” ⁵³ This economic crisis has reportedly “degraded the already weak, underdeveloped and heavily underfunded primary healthcare system,” including by the end of 2020, reducing the number of healthcare facilities by 40 percent across the country.⁵⁴ The COVID-19 pandemic has further “compounded the already dire public health situation.” ⁵⁵

⁵⁰ Sudan Humanitarian impact of multiple protracted crises, ACAPS, Nov. 24, 2021, pg. 2, available at: https://www.acaps.org/sites/acaps/files/products/files/20201124_acaps_briefing_note_sudan_impact_of_multiple_crises.pdf (last visited Mar. 1, 2022).

⁵¹ Sudan Economic Crisis, ACAPS, Feb. 2019, pg. 1, available at: https://www.acaps.org/sites/acaps/files/products/files/20190213_acaps_briefing_note_sudan_economic_crisis.pdf (last visited Mar. 1, 2022).

⁵² Child Protection Annual Report 2020, UN Children's Fund (UNICEF), Mar. 2021, pg. 6, available at: https://www.unicef.org/sudan/media/6091/file/Child%20Protection%20.pdf (last visited Mar. 1, 2022).

⁵³ Child Protection Annual Report 2020, UNICEF, Mar. 2021, pg. 6, available at: https://www.unicef.org/sudan/media/6091/file/Child%20Protection%20.pdf (last visited Mar. 1, 2022).

⁵⁴ Child Protection Annual Report 2020, UNICEF, Mar. 2021, pg. 6, available at: https://www.unicef.org/sudan/media/6091/file/Child%20Protection%20.pdf (last visited Mar. 1, 2022).

⁵⁵ Child Protection Annual Report 2020, UNICEF, Mar. 2021, pg. 6, available at: https://www.unicef.org/sudan/media/6091/file/Child%20Protection%20.pdf (last visited Mar. 1, 2022).

During the rainy season in 2020, flooding affected “close to 900,000 people across the country and farmland, livestock, shelter and other infrastructure.” ⁵⁶ Other areas suffered droughts. ⁵⁷ Many of the flood areas have very limited access to clean water.⁵⁸ Water supply sources have been affected by overflow of the Blue Nile River destroying nearby latrines, resulting in increased risk of water contamination and the outbreak of waterborne diseases.⁵⁹ The health situation in Sudan has continued to deteriorate due to flooding causing “stagnant and contaminated water.” ⁶⁰

⁵⁶ Sudan: Humanitarian Response Plan 2021, UNOCHA, Feb. 21, 2021, pg. 12, available at: https://reliefweb.int/report/sudan/sudan-humanitarian-response-plan-2021-january-2021-enar (last visited Mar. 1, 2022).

⁵⁷ The situation in Abyei; Report of the Secretary-General [S/2021/383], UN Security Council, Apr. 20, 2021, pg. 5, available at: https://www.ecoi.net/en/document/2050368.html (last visited Mar. 1, 2022).

⁵⁸ Sudan: Floods—Operation Update—Emergency Appeal, International Federation of Red Cross and Red Crescent Societies, Mar. 25, 2021, available at: https://reliefweb.int/report/sudan/sudan-floods-operation-update-emergency-appeal-n-mdrsd028-24-march-2021 (last visited Mar. 1, 2022).

⁵⁹ Sudan: Floods—Operation Update—Emergency Appeal, International Federation of Red Cross and Red Crescent Societies, Mar. 25, 2021, available at: https://reliefweb.int/report/sudan/sudan-floods-operation-update-emergency-appeal-n-mdrsd028-24-march-2021 (last visited Mar. 1, 2022).

⁶⁰ Sudan: Floods—Operation Update—Emergency Appeal, International Federation of Red Cross and Red Crescent Societies, Mar. 25, 2021, available at: https://reliefweb.int/report/sudan/sudan-floods-operation-update-emergency-appeal-n-mdrsd028-24-march-2021 (last visited Mar. 1, 2022).

Sudan's worsening economy and protracted health emergencies have resulted in an increase in the number of people without access to basic health services.⁶¹ Sudan has experienced disease outbreaks including cholera, malaria, dengue, chikungunya, viral hemorrhagic fevers and polio.⁶² In 2020 alone, thirteen out of Sudan's eighteen states experienced one or more outbreaks of chikungunya, dengue fever, rift valley fever or diphtheria.⁶³ The COVID-19 pandemic has “further strained the capacity of the health care system due to nationwide lockdowns, re-allocation of health resources, and disruption of global supply chains that impacted availability of medicines and medical supplies.” ⁶⁴

⁶¹ Sudan Situation Report, 31 May 2021, UNOCHA, May 31, 2021, pg. 46, available at: https://www.ecoi.net/en/file/local/2055652/Situation+Report+-+Sudan+-+12+May+2021.pdf (last visited Mar. 1, 2022).

⁶² Sudan: Humanitarian Response Plan, UNOCHA, Feb. 21, 2021, available at: https://reliefweb.int/report/sudan/sudan-humanitarian-response-plan-2021-january-2021-enar (last visited Mar. 1, 2022).

⁶³ Sudan Health Annual Report 2020, UNICEF, pg. 5, available at: https://www.unicef.org/sudan/media/6141/file/Health.pdf (last visited Mar. 1, 2022).

⁶⁴ Sudan: Humanitarian Response Plan, UNOCHA, Feb. 21, 2021, pg. 46, available at: https://reliefweb.int/report/sudan/sudan-humanitarian-response-plan-2021-january-2021-enar (last visited Mar. 1, 2022).

According to UNOCHA, in Sudan, “[w]omen and girls suffer the most due to insecurity, violations of basic human rights, low economic status, lack of livelihood opportunities, and lack of community awareness on women's rights.” ⁶⁵ The United Nations Children's Fund (UNICEF) has also noted that “[c]hildren throughout Sudan are already bearing the brunt of decades of conflict, chronic underdevelopment and poor governance,⁶⁶ with 64 percent of children below 14 years of age experiencing various forms of violence.” ⁶⁷

⁶⁵ Sudan: Humanitarian Response Plan, UNOCHA, Feb. 21, 2021, pg. 60, available at: https://reliefweb.int/report/sudan/sudan-humanitarian-response-plan-2021-january-2021-enar (last visited Mar. 1, 2022).

⁶⁶ Children killed, injured, detained and abused amid escalating violence and unrest in Sudan, UNICEF, Jun. 11, 2019, available at: https://www.unicef.org/press-releases/children-killed-injured-detained-and-abused-amid-escalating-violence-and-unrest (last visited Mar. 1, 2022).

⁶⁷ Child Protection Annual Report 2020, UNICEF, Mar. 2021, pg. 7, available at: https://www.unicefusa.org/about/publications/annual-report-2020?gclid=EAIaIQobChMI9p2M0uD39AIVMv7jBx3c2gHbEAAYASAAEgKHN_D_BwE (last visited Mar. 1, 2022).

According to UNOCHA, “Sudan has seen an increase in the number of people in need of humanitarian assistance from 5.8 million people in 2016 to 13.4 million in 2021.” ⁶⁸ It is estimated that among the 13.4 million people in need,⁶⁹ 9.8 million are severely food insecure.⁷⁰ Yet, access to humanitarian assistance is uncertain. In 2021, the Assessments Capacities Project (ACAPS) reported that armed opposition groups in some areas created “barriers to the delivery of humanitarian aid.” ⁷¹ Intercommunal clashes in other areas have also affected humanitarian operations.⁷² The UNAMID drawdown and closure has also resulted in increased looting and impacted “people's ability to move and reach needed aid.” ⁷³ In July 2021, the UN reported that “since January 2021, 11 of the 14 UNAMID team sites, which have been handed over to civilian authorities, have been looted.” ⁷⁴

⁶⁸ Sudan: Humanitarian Response Plan, UNOCHA, Feb. 21, 2021, pg. 10, available at: https://reliefweb.int/report/sudan/sudan-humanitarian-response-plan-2021-january-2021-enar (last visited Mar. 1, 2022).

⁶⁹ Sudan Key Figures, UNOCHA, available at: https://m.reliefweb.int/country/220/sdn (last visited on Nov. 23, 2021).

⁷⁰ Sudan Situation Report, UNOCHA, Sep. 27, 2021, available at: https://reliefweb.int/report/sudan/sudan-situation-report-29-sep-2021 (last visited Mar. 1, 2022).

⁷¹ Humanitarian Access Overview, ACAPS, Jul. 2021, pg. 12, available at: https://www.acaps.org/sites/acaps/files/products/files/20210719_acaps_humanitarian_access_overview_july_2021.pdf (last visited Mar. 1, 2022).

⁷² Humanitarian Access Overview, ACAPS, Jul. 2021, pg. 12, available at: https://www.acaps.org/sites/acaps/files/products/files/20210719_acaps_humanitarian_access_overview_july_2021.pdf (last visited Mar. 1, 2022).

⁷³ Humanitarian Access Overview, ACAPS, Jul. 2021, pg. 12, available at: https://www.acaps.org/sites/acaps/files/products/files/20210719_acaps_humanitarian_access_overview_july_2021.pdf (last visited Mar. 1, 2022).

⁷⁴ Review of the situation in Darfur and benchmarks to assess the measures on Darfur; Report of the Secretary-General [S/2021/696], UN Security Council, Jul. 2021, pg. 4, available at: https://www.ecoi.net/en/file/local/2058498/S_2021_696_E.pdf (last visited Mar. 1, 2022).

What authority does the Secretary have to designate Sudan for TPS?

Section 244(b)(1) of the INA, 8 U.S.C. 1254a(b)(1), authorizes the Secretary,⁷⁵ after consultation with appropriate agencies of the U.S. Government, to designate a foreign state (or part thereof) for TPS if the Secretary determines that certain country conditions exist.⁷⁶ The decision to designate any foreign state (or part thereof) is a discretionary decision, and there is no judicial review of any determination with respect to the designation, or termination of or extension of a designation. See INA section 244(b)(5)(A); 8 U.S.C. 1254a(b)(5)(A).⁷⁷ The Secretary, in his or her discretion, may then grant TPS to eligible nationals of that foreign state (or individuals having no nationality who last habitually resided in the designated foreign state). See INA section 244(a)(1)(A), 8 U.S.C. 1254a(a)(1)(A).

⁷⁵ INA § 244(b)(1) ascribes this power to the Attorney General. Congress transferred this authority from the Attorney General to the Secretary of Homeland Security. See Homeland Security Act of 2002, Public Law 107-296, 116 Stat. 2135.

⁷⁶ INA § 244(b)(1) ascribes this power to the Attorney General. Congress transferred this authority from the Attorney General to the Secretary of Homeland Security. See Homeland Security Act of 2002, Public Law 107-296, 116 Stat. 2135. The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. Id., at § 244(b)(1).

⁷⁷ This availability of judicial review is under consideration by the courts in the TPS litigation referenced supra.

At least 60 days before the expiration of a foreign state's TPS designation or extension, the Secretary, after consultation with appropriate U.S. Government agencies, must review the conditions in the foreign state designated for TPS to determine whether they continue to meet the conditions for the TPS designation. See INA section 244(b)(3)(A), 8 U.S.C. 1254a(b)(3)(A). If the Secretary determines that the foreign state meets the conditions for TPS designation, the designation will be extended for an additional period of 6 months or, in the Secretary's discretion, twelve or eighteen months. See INA section 244(b)(3)(A), (C), 8 U.S.C. 1254a(b)(3)(A), (C). If the Secretary determines that the foreign state no longer meets the conditions for TPS designation, the Secretary must terminate the designation. See INA section 244(b)(3)(B), 8 U.S.C. 1254a(b)(3)(B).

Notice of the Designation of Sudan for TPS

By the authority vested in me as Secretary under INA section 244, 8 U.S.C. 1254a, I have determined, after consultation with the appropriate U.S. Government agencies, the statutory conditions supporting Sudan's designation for TPS on the basis of extraordinary and temporary conditions in Sudan that prevent the safe return of its nationals are met. See INA section 244(b)(1)(C), 8 U.S.C. 1254a(b)(1)(C). I estimate approximately 3,090 individuals may be eligible for TPS under the designation of Sudan. On the basis of this determination, I am designating Sudan for TPS for eighteen months, from April 19, 2022 through October 19, 2023. See INA section 244(b)(1)(C) and (b)(2); 8 U.S.C. 1254a(b)(1)(C), and (b)(2).

Alejandro N. Mayorkas,
Secretary, U.S. Department of Homeland Security.

Eligibility and Employment Authorization for TPS

Required Application Forms and Application Fees To Register for TPS

ALL APPLICANTS, including individuals whose TPS under the previous designation of Sudan has been continued under a preliminary injunction issued by the Ramos court and 86 FR 50725 (Sept. 10, 2021), should follow these instructions: You must submit a Form I-821, Application for Temporary Protected Status as a new applicant by selecting “1.a This is my initial (first time) application for Temporary Protected Status (TPS). I do not currently have TPS,” along with the required $50 fee for Form I-821 or request for fee waiver. If your TPS is currently continuing under the court orders in Ramos, checking this 1.a. box as an initial applicant under this new designation of Sudan does not affect the continuation of your TPS while those orders remain. However, if those orders are no longer in effect, applying for TPS under this Federal Register Notice will help ensure that you have TPS until the end of this eighteen-month designation on October 19, 2023, as long as you remain eligible. USCIS understands that you do currently have TPS if you are covered by the court orders and checking Box 1.a. will not be deemed a misrepresentation on your part.

You may request a fee waiver by submitting a Form I-912, Request for a Fee Waiver. You must also pay the biometric services fee if you are age 14 or older, unless USCIS grants a fee waiver. Please see additional information under the “Biometric Services Fee” section of this Notice. You are not required to submit Form I-765 or have an EAD but see below for more information if you want to work in the United States.

How TPS Beneficiaries Can Obtain an Employment Authorization Document (EAD)

Everyone must provide their employer with documentation showing that they have the legal right to work in the United States. TPS beneficiaries are authorized to work incident to their TPS and they may apply for and obtain an EAD, which proves their legal right to work. TPS applicants who want to obtain an EAD valid through October 19, 2023, must file a Form I-765, Application for Employment Authorization and pay the Form I-765 fee (or request a fee waiver). TPS applicants may file this form along with their TPS application, or at a later date, provided their TPS application is still pending or has been approved.

For more information on the application forms and fees for TPS, please visit the USCIS TPS web page at uscis.gov/tps. Fees for the Form I-821, the Form I-765, and biometric services are also described in 8 CFR 103.7(b)(1)(i).

Refiling an Initial TPS Registration Application After Receiving a Denial of a Fee Waiver Request

If you receive a denial of a fee waiver request, you must refile your Form I-821 for TPS along with the required fees during the registration period, which extends until October 19, 2023, in order to continue seeking initial TPS or to newly register to avoid losing protection in the event that the court injunctions are lifted. You may also file Form I-765 with payment of the fee along with your TPS application or at any later date you decide you want to request an EAD during the registration period.

Filing Information

USCIS offers the option to applicants for TPS under Sudan's designation to file Form I-821 and related requests for EADs online or by mail. When filing a TPS application, applicants can also request an EAD by submitting a completed Form I-765 with their Form I-821.

Online filing: Forms I-821 and I-765 are available for filing online.⁷⁸ To file these forms online, you must first create a USCIS online account.⁷⁹

⁷⁸ Find information about online filing at Forms Available to File Online, https://www.uscis.gov/file-online/forms-available-to-file-online.

⁷⁹ https://myaccount.uscis.gov/users/sign_up.

Mail filing: Mail your application for TPS to the proper address in Table 1.

Table 1—Mailing Addresses

Mail your completed Form I-821, Application for Temporary Protected Status, and Form I-765, Application for Employment Authorization, Form I-912, Request for Fee Waiver (if applicable), and supporting documentation to the proper address in Table 1.

Table 1—Mailing Addresses
If you . . . | Mail to . . .
Are a beneficiary under the TPS designation for Sudan | U.S. Postal Service (USPS), USCIS, Attn: TPS Sudan, P.O. Box 6943. Chicago, IL 60680-6943. FedEx, UPS, or DHL: USCIS, Attn: TPS Sudan (Box 6943), 131 S Dearborn St. 3rd Floor, Chicago, IL 60603-5517.

If you were granted TPS by an immigration judge (IJ) or the Board of Immigration Appeals (BIA) and you wish to request an EAD, please mail your Form I-765 application to the appropriate mailing address in Table 1. When you are requesting an EAD based on an IJ/BIA grant of TPS, please include a copy of the IJ or BIA order granting you TPS with your application. This will help us verify your grant of TPS and process your application.

Supporting Documents

The filing instructions on the Form I-821 list all the documents needed to establish eligibility for TPS. You may also find information on the acceptable documentation and other requirements for applying (that is, registering) for TPS on the USCIS website at uscis.gov/tps under “Sudan.”

Travel

TPS beneficiaries may also apply for and be granted travel authorization as a matter of discretion. You must file for travel authorization if you wish to travel outside the United States. If granted, travel authorization gives you permission to leave the United States and return during a specific period. To request travel authorization, you must file Form I-131, Application for Travel Document, available at www.uscis.gov/i-131. You may file Form I-131 together with your Form I-821 or separately. When filing the Form I-131, you must:

• Select Item Number 1.d. in Part 2 on the Form I-131; and

• Submit the fee for the Form I-131, or request a fee waiver, which you may submit on Form I-912, Request for Fee Waiver.

If you are filing Form I-131 together with Form I-821, send your forms to the address listed in Table 1. If you are filing Form I-131 separately based on a pending or approved Form I-821, send your form to the address listed in Table 2 and include a copy of Form I-797 for the approved or pending Form I-821.

Table 2—Mailing Addresses
If you . . . | Mail to . . .
Are filing Form I-131 together with a Form I-821, Application for Temporary Protected Status | The address provided in Table 1.
Are filing Form I-131 based on a pending or approved Form I-821, you must include a copy of the receipt notice (Form I-797C) showing we accepted or approved your Form I-821 | USCIS Dallas Lockbox U.S. Postal Service (USPS): U.S. Citizenship and Immigration Services, Attn: I-131 TPS, P.O. Box 660167, Dallas, TX 75266-0867. FedEx, UPS, or DHL: U.S. Citizenship and Immigration Services, Attn: I-131 TPS, 2501 S State Hwy. 121 Business, Ste. 400, Lewisville, TX 75067.

Biometric Services Fee for TPS

Biometrics (such as fingerprints) are required for all applicants 14 years of age and older. Those applicants must submit a biometric services fee. As previously stated, if you demonstrate an inability to pay the biometric services fee, you may be able to have the fee waived. A fee waiver may be requested by submitting a Form I-912, Request for Fee Waiver. For more information on the application forms and fees for TPS, please visit the USCIS TPS web page at uscis.gov/tps. If necessary, you may be required to visit an Application Support Center to have your biometrics captured. For additional information on the USCIS biometric screening process, please see the USCIS Customer Profile Management Service Privacy Impact Assessment, available at dhs.gov/privacy.

General Employment-Related Information for TPS Applicants and Their Employers

How can I obtain information on the status of my TPS application and EAD request?

To get case status information about your TPS application, as well as the status of your TPS-based EAD request, you can check Case Status Online at uscis.gov, or visit the USCIS Contact Center at uscis.gov/contactcenter. If your Form I-765 has been pending for more than 90 days, and you still need assistance, you may ask a question about your case online at egov.uscis.gov/e-request/Intro.do or call the USCIS Contact Center at 800-375-5283 (TTY 800-767-1833).

When hired, what documentation may I show to my employer as evidence of identity and employment authorization when completing Form I-9?

You can find the Lists of Acceptable Documents on the last page of Form I-9, Employment Eligibility Verification, as well as the Acceptable Documents web page at uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. The TPS EADs that DHS automatically extended in the September 10, 2021, compliance notice will remain valid until at least December 31, 2022.⁸⁰ Employers may not reject a document based on the fact that it has been automatically extended, or due to a future expiration date. Individuals whose existing TPS-related documentation continues through December 31, 2022, in accordance with the court orders in Ramos and Saget and the DHS Federal Register notice at 86 FR 50725 (September 10, 2021), may present documentation as described in that notice to their employers for purposes of demonstrating employment eligibility through December 31, 2022. You can find additional information about Form I-9 on the I-9 Central web page at uscis.gov/I-9Central. An EAD is an acceptable document under List A.

⁸⁰ See Continuation of Documentation for Beneficiaries of Temporary Protected Status Designations for El Salvador, Haiti, Nicaragua, Sudan, Honduras, and Nepal, 86 FR 50725 (Sep. 10, 2021).

If I have an EAD based on another immigration status, can I obtain a new TPS-based EAD?

Yes, if you are eligible for TPS, you can obtain a new TPS-based EAD, regardless of whether you have an EAD or work authorization based on another immigration status. If you want to obtain a new TPS-based EAD valid through October 19, 2023, then you must file Form I-765, Application for Employment Authorization, and pay the associated fee (unless USCIS grants your fee waiver request).

Can my employer require that I provide any other documentation such as evidence of my status or proof of my Sudanese citizenship or a Form I-797C showing that I registered for TPS for Form I-9 completion?

No. When completing Form I-9, employers must accept any documentation you choose to present from the Form I-9 Lists of Acceptable Documents that reasonably appears to be genuine and that relates to you, or an acceptable List A, List B, or List C receipt. Employers need not reverify List B identity documents. Employers may not request proof of Sudanese citizenship or proof of registration for TPS when completing Form I-9 for new hires or reverifying the employment authorization of current employees. Refer to the “Note to Employees” section of this Federal Register notice for important information about your rights if your employer rejects lawful documentation, requires additional documentation, or otherwise discriminates against you based on your citizenship or immigration status, or your national origin. Employers can refer to the compliance notice that DHS published on September 10, 2021, for information on how to complete the Form I-9 with TPS EADs that DHS extended through December 31, 2022.⁸¹

⁸¹ See Continuation of Documentation for Beneficiaries of Temporary Protected Status Designations for El Salvador, Haiti, Nicaragua, Sudan, Honduras, and Nepal, 86 FR 50725 (Sep. 10, 2021).

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@uscis.dhs.gov. USCIS accepts calls in English, Spanish and many other languages. Employees or job applicants may also call the IER Worker Hotline at 800-255-7688 (TTY 800-237-2515) for information regarding employment discrimination based on citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of “Tentative Nonconfirmation” (TNC) must promptly inform employees of the TNC and give such employees an opportunity to contest the TNC. A TNC case result means that the information entered into E-Verify from Form I-9 differs from records available to DHS.

Employers may not terminate, suspend, delay training, withhold or lower pay, or take any adverse action against an employee because of a TNC while the case is still pending with E-Verify. A Final Nonconfirmation (FNC) case result is received when E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at justice.gov/ier and the USCIS and E-Verify websites at uscis.gov/i-9-central and e-verify.gov.

Note Regarding Federal, State, and Local Government Agencies (Such as Departments of Motor Vehicles)

This Federal Register Notice does not invalidate the compliance notice DHS issued on September 10, 2021, which extended the validity of certain TPS documentation through December 31, 2022 and does not require individuals to present an I-797, Notice of Action. For Federal purposes, individuals approved for TPS may show their Form I-797, Notice of Action, indicating approval of their Form I-821 application, or their A12 EAD (including those that have been extended) to prove that they have TPS. USCIS can also confirm whether an individual has TPS if they show a C19 EAD, which indicates prima facie eligibility for TPS. While Federal Government agencies must follow the guidelines laid out by the Federal Government, state and local government agencies establish their own rules and guidelines when granting certain benefits. Each state may have different laws, requirements, and determinations about what documents they require you to provide to prove eligibility for certain benefits. Whether you are applying for a Federal, state, or local government benefit, you may need to provide the government agency with documents that show you are covered under TPS or show you are authorized to work based on TPS. Examples of such documents are:

• Your new EAD with a category code of A12 or C19 for TPS, regardless of your country of birth;

• A copy of your Form I-94, Arrival/Departure Record; or

• Form I-797, the notice of approval, for a current Form I-821, if you received one from USCIS.

Check with the government agency regarding which document(s) the agency will accept.

Some benefit-granting agencies use the SAVE program to confirm the current immigration status of applicants for public benefits. SAVE can verify when an individual has TPS based on the documents above. In most cases, SAVE provides an automated electronic response to benefit-granting agencies within seconds, but occasionally verification can be delayed. You can check the status of your SAVE verification by using CaseCheck at uscis.gov/save/save-casecheck, then by clicking the “Check Your Case” button. CaseCheck is a free service that lets you follow the progress of your SAVE verification using your date of birth and SAVE verification case number or an immigration identifier number that you provided to the benefit-granting agency. If an agency has denied your application based solely or in part on a SAVE response, the agency must offer you the opportunity to appeal the decision in accordance with the agency's procedures. If the agency has received and acted on or will act on a SAVE verification and you do not believe the response is correct, please see the SAVE Records: Fast Facts For Benefit Applicants sheet under SAVE Resources at https://www.uscis.gov/save/save-resources for information about how to correct or update your immigration record.

[FR Doc. 2022-08363 Filed 4-18-22; 8:45 am]

BILLING CODE 9111-97-P